DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Evaluation of Public Visitors' Experience of Exhibits at Mokupapapa Discovery Center.

OMB Control Number: None.

Form Number(s): None.

Type of Request: Regular submission.

Burden Hours: 31.

Number of Respondents: 250.

Average Hours per Response: 7 to 8 minutes.

Needs and Uses: The National Marine Sanctuary Program (NMSP) education team has embarked on an ambitious evaluation project that will allow the NMSP to assess education program outcomes and impacts across all sites and activities and to link outcome measures to program efforts. The purpose of this effort is to evaluate if the current exhibits at the Mokupapapa Discovery Center (Hilo, HI) are meeting the goals and objectives of the educational mandates of the National Marine Sanctuaries Act, particularly in relation to the relatively recent establishment of the Papahanaumokuakea Marine National Monument in the Northwest Hawaiian Islands (NWHI). Randomly selected visitors to the Mokupapapa Discovery Center will be interviewed when leaving to explore their understanding of the location and geography of the islands, as well as their perception of interpretive messages, including the significance and sensitivity of the NWHI ecology. Application of findings from this evaluation will assist in adjusting program content, format, range of activities, and target audiences to improve overall effectiveness of educational efforts and expenditures.

Affected Public: Individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 5, 2008.
Gwellnar Banks,
Management Analyst, Office of the Chief Information Officer.

[FR Doc. E8-21031 Filed 9-10-08; 8:45 am]

BILLING CODE 3510-22-P